ENVIRONMENTAL PROTECTION AGENCY

[EPA-HQ-OPP-2005-0285; FRL-8070-1]

Notice of Requests to Voluntarily Cancel Certain Pesticide Registrations; Technical Amendment

AGENCY: Environmental Protection Agency (EPA).

ACTION: Notice.

SUMMARY: On October 28, 2005, EPA issued a Notice of Receipt of Requests to Voluntarily Cancel Certain Pesticide Registrations. That Notice did not explicitly provide for a 30-day period in which the public may comment, in accordance with section 6(f)(1)(B) of the Federal Insecticide, Fungicide, and Rodenticide Act (FIFRA), as amended. Accordingly, EPA is reopening the comment period for 30 days to allow the public to comment on any requests for voluntary cancellation listed in the October 28, 2005 Notice.

DATES: Comments on the October 28, 2005 Notice must be received by June 30, 2006.

FOR FURTHER INFORMATION CONTACT: John Jamula, Information Technology and Resources Management Division (7502P), Office of Pesticide Programs, Environmental Protection Agency, 1200 Pennsylvania Ave., NW., Washington, DC 20460-0001; telephone number: (703) 305-6426; e-mail address: jamula.john@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Copies of this Document and Other Related Information?

1. Docket. EPA has established a docket for this action under docket identification (ID) number EPA-HQ-OPP-2005-0285. Publicly available docket materials are available either in the electronic docket at http://www.regulations.gov, or, if only available in hard copy, at the Office of Pesticide Programs (OPP) Regulatory Public Docket in Rm. S-4400, One Potomac Yard (South Building), 2777 S. Crystal Drive Arlington, VA. The hours of operation of this Docket Facility are from 8:30 a.m. to 4 p.m., Monday through Friday, excluding legal holidays. The Docket telephone number is (703) 305-5805.

2. Electronic access. You may access this Federal Register document electronically through the EPA Internet under the “Federal Register” listings at http://www.epa.gov/fedrgstr.

II. What Action is the Agency Taking?

On October 28, 2005, EPA issued a notice announcing the receipt by EPA of applications from registrants to cancel certain pesticide products registered under section 3 or section 24(c) of FIFRA. (See 70 FR 62112, October 28,2005)(FRL-7743-6). Those registrations are listed in sequence by registration number (or company number and 24(c) number) in Table 1 of that Notice. Table 2 of that Notice includes the names and addresses of record for all registrants of the products in Table 1, in sequence by EPA company number.

Under FIFRA section 6(f)(1)(B), EPA must “provide for a 30-day period in which the public may comment” before acting on any request to cancel or amend a pesticide registration submitted under section 6(f)(1)(A). Although the October 28, 2005 Notice allowed registrants 180 days to withdraw any requests for voluntary cancellation, it did not explicitly refer to a 30-day public comment period. Therefore, EPA is issuing this notice to provide specifically for a public comment period on the requests for voluntary cancellation contained in the October 28, 2005 Notice. EPA will not issue any cancellation orders for any products contained in the October 28, 2005 Notice before June 30, 2006.

Because FIFRA section 6(f)(1)(A) allows a registrant to request cancellation of its pesticide registrations at any time, users or anyone else desiring retention of those pesticides listed in the October 28, 2005 Notice may want to contact the applicable registrant in Table 2 of the October 28, 2005 Notice directly to request that the registrant retain the pesticide registration or to discuss the possibility of transferring the registration. A user seeking to apply for its own registration of that pesticide may submit comments requesting EPA not to cancel a registration until its “me-too” registration is granted.

III. What is the Agency's Authority for Taking this Action?

Section 6(f)(1) of FIFRA provides that a registrant of a pesticide product may at any time request that any of its pesticide registrations be canceled. FIFRA further provides that, before acting on the request, EPA must publish a notice of receipt of any such request in the Federal Register and provide for a 30-day period in which the public may comment. Thereafter, the Administrator may approve such a request.

List of Subjects

Environmental protection, Pesticides and pests.

Dated: May 18, 2006.
Robert Forrest
Acting Director, Information Technology and Resources Management Division, Office of Pesticide Programs.

[FR Doc. E6-8144 Filed 5-30-06; 8:45 am]

BILLING CODE 6560-50-S